DEPARTMENT OF TRANSPORTATION

Federal Highway Administration

Environmental Impact Statements: National Summary of Rescinded Notices of Intent

AGENCY: Federal Highway Administration (FHWA), DOT.

ACTION: Notice.

SUMMARY: The FHWA is issuing this notice to advise the public that 12 States have rescinded Notices of Intent (NOI) to prepare 17 Environmental Impact Statements (EISs) for proposed highway projects. FHWA Division Offices, in consultation with the State Departments of Transportation (State DOT), determined that eight projects were no longer viable and have formally cancelled the projects. No resources will be expended on these projects; the environmental review process has been terminated. Seven projects are being reevaluated and, or have been reduced in scope and now meet the criteria for an Environmental Assessment (EA) or a Categorical Exclusion (CE). Two projects rescinded NOIs and will issue new NOIs as the project limits and impacts have changed.

FOR FURTHER INFORMATION CONTACT: Bethaney Bacher-Gresock, Office of Project Development and Environmental Review, (202) 366-4196; Janet Myers, Office of the Chief Counsel, (202) 366-2019; Federal Highway Administration, 1200 New Jersey Avenue, SE., Washington, DC 20590.

SUPPLEMENTARY INFORMATION:

Electronic Access

An electronic copy of this document may be downloaded by accessing the Federal Register's home page at: http://www.archives.gov and the Government Printing Office's Web page at http://www.gpoaccess.gov/nara.

Background

The FHWA, as lead Federal agency under the National Environmental Policy Act and in furtherance of its oversight and stewardship responsibilities under the Federal-aid Highway Program, has requested that its Division Offices review, with the State DOTs, the status of all EISs and place those projects that are not actively progressing in a timely manner in an inactive project status. The FHWA maintains lists of active and inactive projects on its Web site at http://www.environment.fhwa.dot.gov/. The FHWA has determined that inactive projects that are no longer a priority or that lack resources should be rescinded with a Federal Register notice notifying the public that project activity has been terminated. As always, FHWA encourages State DOTs to work with their FHWA Division Office to determine when it is most prudent to initiate an EIS in order to best balance available resources as well as the expectations of the public.

The FHWA is issuing this notice to advise the public that 12 States (California, Colorado, Idaho, Indiana, Massachusetts, Minnesota, Mississippi, Missouri, New York, Ohio, Pennsylvania, Tennessee) have recently rescinded previously issued NOIs for 17 EISs for proposed highway projects. A listing of these projects, general location, original NOI date of publication in the Federal Register, and the date that the NOI was formally rescinded by notice published in the Federal Register, is provided below.

The FHWA Division Offices, in consultation with the State DOTs, determined that eight of these projects were no longer viable projects and have formally cancelled those projects. The projects are: Northwest Corridor/Northwest Parkway project in Broomfield and Jefferson Counties, Colorado; TH 169 in Millie Lacs and Crow Wing Counties, Minnesota; TH 10 project in Sherburne County, Minnesota; TH 10 in Otter Tail and Wadena Counties, Minnesota; TH 14 in Olmsted County, Minnesota; I 55 connection to I 20 in Hinds and Madison Counties, Mississippi; improvements to the transportation system in Lawrence, Christian and Greene Counties, Missouri; and US-127 and SR-63/SR-4 Interchange highway improvements near Trenton in Butler County, Ohio.

The FHWA Division Offices, in consultation with the State DOTs, determined that seven projects should be reevaluated and, or reduced in scope. In California, the US 395 project from I 15 to Farmington Road in San Bernardino County is being reduced in scope; the I 5 HOV Truck Lanes project between SR 14 and Parker Road in Los Angeles County has been reviewed and will now be processed with an EA. In Idaho, the I 84 Karcher Interchange project in Ada and Canyon Counties will now most likely be processed as an EA. In Indiana, the proposed relocation of railroad lines in Knox County, Indiana and Lawrence County, IL will be reduced in scope. In Massachusetts, the Berkley-Dighton Bridge over the Taunton River, Bristol County project has been reduced in scope and now meets the criteria for a CE. In New York, the Millennium Parkway project in Chautauqua County has been reduced in scope and now meets the criteria for a CE. In Pennsylvania, SR 56 in Johnstown has been reduced in scope and now meets the criteria for a CE.

In addition, the FHWA Division Office, in consultation with the State DOT, determined that two projects in Tennessee had changed project limits and impacts therefore it was best to rescind the original NOIs and issue new NOIs. The SR 374 project from SR 13 to SR 76 in Montgomery County, Tennessee will reissue an NOI. The North Second Street Connector project in Shelby County issued a new NOI on February 5, 2009.

State | Project name—location | NOI date | Rescinded date
CA | U.S. 395 Realignment—San Bernardino County | 7/5/2006 | 10/30/2008
CA | Interstate 5 (I-5) HOV Truck Lanes SR14 and Parker Road Interchange—Los Angeles County | 5/10/2007 | 11/10/2008
CO | Northwest Corridor/Northwest Parkway—Broomfield and Jefferson Counties | 7/21/2003 | 7/1/2008
ID | I 84 Karcher Interchange—Ada and Canyon Counties | 7/17/2007 | 7/17/2008
IN | Railroad Line Relocations—Knox County, Indiana and Lawrence County Illinois | 3/16/2007 | 11/25/2008
MA | Berkley-Dighton Bridge over the Taunton River—Bristol County | 10/9/1985 | 6/19/2008
MN | TH 169—Mille Lacs and Crow Wing Counties | 7/17/2000 2/4/2002 | 7/8/2009
MN | Tier 1—TH 10—Sherburne County | 7/28/2003 | 10/10/2008
MN | TH 10—Otter Tail and Wadena Counties | 3/27/2003 | 10/10/2008
MN | TH 14—Olmstead County | 10/7/2002 | 10/10/2008
MS | Interstate Facility Connecting I-55 with I-20—Hinds and Madison Counties | 8/10/2007 | 10/1/2008
MO | Transportation System in Lawrence Christian and Green Counties | ⁽¹⁾ | 1/23/2009
NY | Millennium Parkway Project Chautauqua County | 12/27/2007 | 3/3/2009
OH | Highway Improvement Project US-127 and SR-63/SR-4 Interchange—Trenton, Butler County | 10/6/2000 | 6/30/2008
PA | SR 56—Johnstown | 7/14/2001 | 10/l/2008
TN | State Route 374, State Route 13, State Route 76—Montgomery County | 11/12/1996 | 12/24/2008
TN | North Second Street Connector—Shelby County | 11/2/2002 | 12/24/2008
¹ Unknown.

(Catalog of Federal Domestic Assistance Program Number 20.205, Highway Planning and Construction. The regulations implementing Executive Order 12372 regarding intergovernmental consultation on Federal programs and activities apply to this program.)

Issued on: May 14, 2009.
Jeffrey F. Paniati,
Acting Deputy Federal Highway Administrator.

[FR Doc. E9-12526 Filed 5-28-09; 8:45 am]

BILLING CODE 4910-22-P